DEPARTMENT OF HOMELAND SECURITY

Coast Guard

33 CFR Part 165

[Docket No. USCG-2016-0248]

RIN 1625-AA00

Safety Zones; Recurring Events in Captain of the Port Duluth Zone

AGENCY: Coast Guard, DHS.

ACTION: Notice of proposed rulemaking.

SUMMARY: The Coast Guard proposes to amend its safety zones regulations for annual events in the Captain of the Port Duluth Zone. This proposed rule would update the locations for two safety zones, add three safety zones, and modify the format of the regulations to list the annual events and corresponding safety zones in table form. These proposed amendments will protect spectators, participants, and vessels from the hazards associated with annual marine events and improve the clarity and readability of the regulations.

DATES: Comments and related material must be received by the Coast Guard on or before May 19, 2016.

ADDRESSES: You may submit comments identified by docket number USCG-2016-0248 using the Federal eRulemaking Portal at http://www.regulations.gov. See the “Public Participation and Request for Comments” portion of the SUPPLEMENTARY INFORMATION section for further instructions on submitting comments.

FOR FURTHER INFORMATION CONTACT: If you have questions on this rule, call or email Lieutenant Junior Grade John Mack, Chief of Waterways Management, Marine Safety Unit Duluth, U.S. Coast Guard; telephone (218) 725-3818 or by email John.V.Mack@uscg.mil.

SUPPLEMENTARY INFORMATION:

I. Table of Abbreviations

CFR Code of Federal Regulations

DHS Department of Homeland Security

FR Federal Register

NPRM Notice of Proposed Rulemaking

II. Background, Purpose, and Legal Basis

On May 31, 2013 the Coast Guard published an NPRM in the Federal Register (78 FR 32608) entitled “Recurring Events in the Captain of the Port Duluth Zone.” The NPRM proposed to establish 8 permanent safety zones for annually recurring events in the Captain of the Port Duluth Zone under § 165.943. The NPRM was open for comment for 30 days.

On August 12, 2013 the Coast Guard published the Final Rule in the Federal Register (78 FR 48802) after receiving no comments on the NPRM. Through this proposed rule, the Coast Guard seeks to update § 165.943.

The legal basis for this proposed rule is the Coast Guard's authority to establish safety zones: 33 U.S.C. 1231; 33 CFR 1.05-1, 160.5; Department of Homeland Security Delegation No. 0170.1.

This proposed rule would update the locations of two safety zones (Cornucopia 4th of July Fireworks Display & Superior Man Triathlon), add three new permanent safety zones (City of Bayfield 4th of July Fireworks Display, Two Harbors 4th of July Fireworks Display, & Power Boat Championship Presented by TCPBA) for recurring safety zones, and modify the format of § 165.943 to list annual events and corresponding safety zones in table form. These changes are necessary to protect spectators, participants, and vessels from the hazards associated with annual marine events, and to improve the overall clarity and readability of the rule. These hazards related to the annual events include obstructions to the waterway that may result in marine casualties; explosive danger and flaming debris falling into the water from fireworks; and large congregations of vessels and waterborne spectators in the vicinity of the annual events.

This proposed rule will also arrange the safety zones listed in § 165.943 into a table sorted in ascending order of event date. This change in format is intended to improve clarity and readability and to reduce redundancy in the regulation.

Finally, this proposed rule clarifies that the enforcement dates and times for each safety zone listed in Table 165.943 is subject to change. While the events are anticipated to annually recur on certain dates, factors, to include inclement weather, may result in postponement. In the event of a postponement, the Coast Guard will issue a Notice of Enforcement with updated enforcement dates and times, and corresponding Broadcast Notice to Mariners for on scene notice.

III. Discussion of Proposed Rule

The amendments to this proposed rule are necessary to ensure the safety of vessels and people during annual events taking place on or near federally maintained waterways in the Captain of the Port Duluth Zone. Although this proposed rule will be in effect year-round, the specific safety zones listed in Table 165.943 will only be enforced during a specified period of time when the event is on-going.

When a Notice of Enforcement for a particular safety zone is published, entry into, transiting through, or anchoring within the safety zone is prohibited unless authorized by the Captain of the Port Duluth, or his or her designated representative. The Captain of the Port Duluth or his or her designated representative can be contacted via VHF Channel 16. All persons and vessels granted permission to enter the safety zone must comply with all instructions given by the Captain of the Port Duluth or his or her designated representative.

IV. Regulatory Analyses

We developed this proposed rule after considering numerous statutes and Executive orders related to rulemaking. Below we summarize our analyses based on a number of these statutes and Executive orders and we discuss First Amendment rights of protestors.

A. Regulatory Planning and Review

Executive Orders 12866 and 13563 direct agencies to assess the costs and benefits of available regulatory alternatives and, if regulation is necessary, to select regulatory approaches that maximize net benefits. Executive Order 13563 emphasizes the importance of quantifying both costs and benefits, of reducing costs, of harmonizing rules, and of promoting flexibility. This NPRM has not been designated a “significant regulatory action,” under Executive Order 12866. Accordingly, the NPRM has not been reviewed by the Office of Management and Budget.

This regulatory action determination is based on the size, location, duration, and time-of-day of the safety zones. The safety zones created by this proposed rule will be small and enforced for short periods of time. Under certain conditions, moreover, vessels may still transit through the safety zone when permitted by the Captain of the Port Duluth. Before the enforcement of these safety zones, the Coast Guard will issue local Broadcast Notice to Mariners so that vessel owners and operators may plan accordingly.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the safety zone may be small entities, for the reasons stated in section IV.A above, this proposed rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132, Federalism, if it has a substantial direct effect on the States, on the relationship between the national government and the States, or on the distribution of power and responsibilities among the various levels of government. We have analyzed this proposed rule under that Order and have determined that it is consistent with the fundamental federalism principles and preemption requirements described in Executive Order 13132.

Also, this proposed rule does not have tribal implications under Executive Order 13175, Consultation and Coordination with Indian Tribal Governments, because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

F. Environment

We have analyzed this rule under Department of Homeland Security Management Directive 023-01 and Commandant Instruction M16475.lD, which guide the Coast Guard in complying with the National Environmental Policy Act of 1969 (NEPA) (42 U.S.C. 4321-4370f), and have determined that this action is one of a category of actions that do not individually or cumulatively have a significant effect on the human environment. An environmental analysis checklist supporting this determination is available in the docket where indicated under ADDRESSES. This proposed rule involves the establishment of safety zones and is therefore categorically excluded under paragraph 34(g) of Figure 2-1 of the Commandant Instruction. We seek any comments or information that may lead to the discovery of a significant environmental impact from this rule.

G. Protest Activities

The Coast Guard respects the First Amendment rights of protesters. Protesters are asked to contact the person listed in the FOR FURTHER INFORMATION CONTACT section to coordinate protest activities so that your message can be received without jeopardizing the safety or security of people, places, or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, you may review a Privacy Act notice regarding the Federal Docket Management System in the March 24, 2005, issue of the Federal Register (70 FR 15086).

Documents mentioned in this NPRM as being available in the docket, and all public comments, will be in our online docket at http://www.regulations.gov and can be viewed by following that Web site's instructions. Additionally, if you go to the online docket and sign up for email alerts, you will be notified when comments are posted or a final rule is published.

List of Subjects in 33 CFR Part 165

Harbors, Marine safety, Navigation (water), Reporting and record keeping requirements, Security measures, Waterways.

For the reasons discussed in the preamble, the Coast Guard proposes to amend 33 CFR parts 165 as follows:

PART 165—REGULATED NAVIGATION AREAS AND LIMITED ACCESS AREAS

1. The authority citation for Part 165 continues to read as follows:

Authority: 33 U.S.C. 1231; 50 U.S.C. 191; 33 CFR 1.05-1, 6.04-1, 6.04-6, and 160.5; Department of Homeland Security Delegation No. 0170.1.

2. Revise § 165.943 to read as follows:

§ 165.943 Safety Zones; Recurring Events in Captain of the Port Duluth Zone.

(a) Regulations. The following regulations apply to the safety zones listed in Table 165.943 of this section:

(1) The Coast Guard will provide advance notice of the enforcement date and time of the safety zone being enforced in Table 165.943, by issuing a Notice of Enforcement, as well as, a Broadcast Notice to Mariners.

(2) During the enforcement period, the general regulations found in § 165.23 shall apply.

(b) Contacting the Captain of the Port. While a safety zone listed in this section is enforced, the Captain of the Port Duluth or his or her on-scene representative may be contacted via VHF Channel 16. Vessel operators given permission to enter or operate in the safety zone must comply with all directions given to them by the Captain of the Port Duluth, or his or her on-scene representative.

(c) Exemption. Public vessels, defined as any vessel owned or operated by the United States or by State or local governments, operating in an official capacity are exempted from the requirements of this section.

Table 165.943
[Datum NAD 1983]
Event | Location | Event date
(1) Bridgefest Regatta Fireworks Display | All waters of the Keweenaw Waterway in Hancock, MI within the arc of a circle with a radius of no more than 1,120 feet from the launch site at position 47°07′22″ N., 088°35′39″ W | Mid June.
(2) Ashland 4th of July Fireworks Display | All waters of Chequamegon Bay in Ashland, WI within the arc of a circle with a radius of no more than 1,120 feet from the launch site at position 46°35′50″ N., 090°52′59″ W | On or around July 4th.
(3) City of Bayfield 4th of July Fireworks Display | All waters of the Lake Superior North Channel in Bayfield, WI within the arc of a circle with a radius of no more than 1,120 feet from the launch site at position 46°48′39″ N., 090°48′35″ W | On or around July 4th.
(4) Cornucopia 4th of July Fireworks Display | All waters of Siskiwit Bay in Cornucopia, WI within the arc of a circle with a radius of no more than 1,120 feet from the launch site at position 46°51′35″ N., 091°06′13″ W | On or around July 4th.
(5) Duluth 4th Fest Fireworks Display | All waters of the Duluth Harbor Basin, Northern Section in Duluth, MN within the arc of a circle with a radius of no more than 1,120 feet from the launch site at position 46°46′14″ N., 092°06′16″ W | On or around July 4th.
(6) LaPointe 4th of July Fireworks Display | All waters of Lake Superior in LaPointe, WI within the arc of a circle with a radius of no more than 1,120 feet from the launch site at position 46°46′40″ N., 090°47′22″ W | On or around July 4th.
(7) Two Harbors 4th of July Fireworks Display | All waters of Agate Bay in Two Harbors, MN within the arc of a circle with a radius of no more than 1,120 feet from the launch site at position 47°00′54″ N., 091°40′04″ W | On or around July 4th.
(8) Point to LaPointe Swim | All waters of the Lake Superior North Channel between Bayfield and LaPointe, WI within an imaginary line created by the following coordinates: 46°48′50″ N., 090°48′44″ W., moving southeast to 46°46′44″ N., 090°47′33″ W., then moving northeast to 46°46′52″ N., 090°47′17″ W., then moving northwest to 46°49′03″ N., 090°48′25″ W., and finally returning to the starting position | Early August.
(9) Lake Superior Dragon Boat Festival Fireworks Display | All waters of Superior Bay in Superior, WI within the arc of a circle with a radius of no more than 1,120 feet from the launch site at position 46°43′23″ N., 092°03′45″ W | Late August.
(10) Superior Man Triathlon | All waters of the Duluth Harbor Basin, Northern Section in Duluth, MN within an imaginary line created by the following coordinates: 46°46′36″ N., 092°06′06″ W., moving southeast to 46°46′32″ N., 092°06′01″ W., then moving northeast to 46°46′45″ N., 092°05′45″ W., then moving northwest to 46°46′49″ N., 092°05′49″ W., and finally returning to the starting position | Late August.
(11) Power Boat Championship Presented by TCPBA | All waters of Superior Bay in Superior, WI within the arc of a circle with a radius of no more than 1,000 feet from the position of 46°43′30″ N., 092°03′57″ W | Late August.

Dated: March 31, 2016.
A.H. Moore, Jr.,
Commander, U.S. Coast Guard, Captain of the Port Duluth.

[FR Doc. 2016-09031 Filed 4-18-16; 8:45 am]

BILLING CODE 9110-04-P